DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 29577, dated May 31, 2001) is amended to establish the Office of Compensation and Analysis within the Office of the Director, National Institute for Occupational Safety and Health.

Section C-B, Organization and Functions, is hereby amended as follows:

After the mission statement for the Office of Administrative and Management Services (CC11), Office of the Director (CC1), National Institute for Occupational Safety and Health (CC), insert the following:

Office of Compensation Analysis and Support (CC12). (1) Conducts a program in support of Federal rulemaking to promulgate science-based methods and guidelines mandated by the Energy Employees Occupational Illness Compensation Program Act of 2000 (“the Act”) to estimate the occupational radiation doses of claimants under the Act and evaluate the relationship between such doses and cancers incurred by the claimants; (2) develops and implements a program of science-based analysis and policymaking by which the Secretary of Health and Human Services shall consider and issue determinations on petitions by classes of employees to be included as members of the Special Exposure Cohort established under the Act; (3) conducts a program of individual dose reconstruction to estimate and report the radiation doses of claimants under the Act; and (4) identifies and recommends the appointment of occupational physicians to physician panels to be established by the Secretary of Energy to consider the claims of workers with illnesses applying for compensation under state workers' compensation programs.

Dated: July 2, 2001.
Martha Katz,
Acting Director, Centers for Disease Control and Prevention.

[FR Doc. 01-17583 Filed 7-12-01; 8:45 am]

BILLING CODE 4160-18-M